Title 3—

The President

Proclamation 7845 of November 9, 2004

World Freedom Day, 2004

By the President of the United States of America

A Proclamation

Fifteen years ago, the people of East and West Germany tore down the Berlin Wall, and freedom triumphed over Communism. The dismantling of the Berlin Wall reunited Germany and helped spread freedom across Central and Eastern Europe. With free elections and the spread of democratic values, these countries won their liberty, and their people became free. These democracies today contribute to a strong Europe, and the United States values their friendship and their partnership.

On World Freedom Day, we recognize all of those who fought for liberty and helped end the oppression of Central and Eastern Europe. We stand by those who today are enjoying the blessings of liberty. And we reaffirm our commitment to extending peace and freedom in the world.

NOW, THEREFORE, I, GEORGE W. BUSH, President of the United States of America, by virtue of the authority vested in me by the Constitution and laws of the United States, do hereby proclaim November 9, 2004, as World Freedom Day. I call upon the people of the United States to observe this day with appropriate ceremonies and activities and to reaffirm their dedication to freedom and democracy.

IN WITNESS WHEREOF, I have hereunto set my hand this ninth day of November, in the year of our Lord two thousand four, and of the Independence of the United States of America the two hundred and twenty-ninth.

B

[FR Doc. 04-25438

Filed 11-12-04; 8:45 am]

Billing code 3195-01-P